ENVIRONMENTAL PROTECTION AGENCY

[FRL-7120-4]

Agency Information Collection Activities: Proposed Collection; Comment Request; Servicing of Motor Vehicle Air Conditioners

AGENCY: Environmental Protection Agency (EPA).

ACTION: Notice.

SUMMARY: In compliance with the Paperwork Reduction Act (44 U.S.C. 3501 et seq.), this document announces that EPA is planning to submit the following renewal of the Information Collection Request (ICR) to the Office of Management and Budget (OMB): Servicing of Motor Vehicle Air Conditioners, OMB Control Number 2060-0247, EPA Number 1617.04, which will expire on May 31, 2002. Before submitting the ICR to OMB for review and approval, EPA is soliciting comments on specific aspects of the proposed information collection as described below.

DATES: Comments must be submitted on or before February 19, 2002.

ADDRESSES: Global Programs Division, (6205-J), 1200 Pennsylvania Avenue, NW., Washington, DC 20460. To obtain a copy of the ICR, free of charge, you may contact the Stratospheric Ozone Hotline at 1/800-296-1996.

FOR FURTHER INFORMATION CONTACT: Nancy Smagin 202-564-9126 202-564-2156 smagin.nancy.epa.gov.

SUPPLEMENTARY INFORMATION: Affected entities: Entities potentially affected by this action are those that service motor vehicle air conditioners. Entities that service motor vehicle air conditioners must send a one-time recovery/recycle equipment certification to EPA. New technical colleges seeking EPA authorization to certify technicians to service motor vehicle air conditioners. Additional laboratories, although highly unlikely, seeking to become EPA certified to test refrigerant, which has been reclaimed to the industry standard.

Title: “Servicing of Motor Vehicle Air Conditioners”

OMB Control No.: 2060-0247; EPA ICR No. 1617.04, expiring on May 31, 2002.

Abstract: Section 609(d)(3)-(4) of the Act requires that all entities that service motor vehicle air conditioners acquire approved refrigerant recycling equipment. Proposed automotive technician certification programs are required to be approved by EPA in section 609(b)(4). Under section 609(b)(2)(A), independent laboratories must seek EPA approval to assure that they meet an industry accepted standard of quality. Owners may show that they possess substantially identical equipment as addressed in section 609(b)(2)(B), and obtain certification from EPA. The recordkeeping requirements for motor vehicle recycling programs are derived from section 114 of the Act. Responses collected or recorded are required to ensure that EPA standards are met, and are consistent with the least stringent of the Society of Automotive Engineers (SAE) J standards.

An agency may not conduct or sponsor, and a person is not required to respond to, a collection of information unless it displays a currently valid OMB control number. The OMB control numbers for EPA's regulations are listed in 40 CFR part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

Burden Statement: The estimated annual burden associated with recordkeeping is 5,320 hours, and the total annual costs are estimated at $266,000. The estimated annual reporting burden is estimated at 3,562 hours, and the total annual costs are estimated at $178,100. The total annual public burden of capital/start-up and total burden hours is 8,882, and the summary total of all capital/start-up costs and total annual costs is $444,100.

Dated: December 12, 2001.
Paul Stolpman,
Director, Office of Atmospheric Programs.

[FR Doc. 01-31345 Filed 12-19-01; 8:45 am]

BILLING CODE 6560-50-P